FEDERAL ELECTION COMMISSION

11 CFR Part 100

Scope and Definitions (2 U.S.C. 431)

CFR Correction

In Title 11 of the Code of Federal Regulations, revised as of January 1, 2012, on page 42, in § 100.19, a heading is added to paragraph (a) to read as follows:

§ 100.19 File, filed or filing (2 U.S.C. 434(a)).

* * * * *

(a) Where to deliver reports. * * *

* * * * *

[FR Doc. 2013-18542 Filed 7-30-13; 8:45 am]

BILLING CODE 1505-01-D